SMALL BUSINESS ADMINISTRATION

[Declaration of Disaster #3319]

State of Alabama

Jefferson County and the contiguous counties of Bibb, Blount, Shelby, St. Clair, Tuscaloosa, and Walker constitute a disaster area due to damages caused by severe storms and straight-line winds that occurred on February 16, 2001. Applications for loans for physical damage as a result of this disaster may be filed until the close of business on April 30, 2001 and for economic injury until the close of business on November 30, 2001 at the address listed below or other locally announced locations: U.S. Small Business Administration, Disaster Area 2 Office, One Baltimore Place, Suite 300, Atlanta, GA 30308.

The interest rates are:

| Percent
For Physical Damage:
Homeowners with credit available elsewhere | 7.000
Homeowners without credit available elsewhere | 3.500
Businesses with credit available elsewhere | 8.000
Business and non-profit organizations without credit available elsewhere | 4.000
Others (including non-profit organizations) with credit available elsewhere | 7.000
For Economic Injury:
Businesses and small agricultural cooperatives without credit available elsewhere | 4.000

The number assigned to this disaster for physical damage is 331911. The number assigned to this disaster for economic injury is 9K8700.

(Catalog of Federal Domestic Assistance Program Nos. 59002 and 59008)
Dated: February 28, 2001.
John Whitmore,
Acting Administrator.

[FR Doc. 01-6103 Filed 3-9-01; 8:45 am]

BILLING CODE 8025-01-U